NATIONAL SCIENCE FOUNDATION

National Science Board; Sunshine Act Meetings; Notice

The National Science Board's ad hoc Committee on Nominations for the Class of 2012-2018, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

DATE AND TIME: Monday, August 29, 2011 from 1 p.m.-3 p.m., EDT

SUBJECT MATTER: Discussion of NSB Candidate Reviews and Ratings.

STATUS: Closed.

This meeting will be held by teleconference originating at the National Science Board Office, National Science Foundation, 4201Wilson Blvd., Arlington, VA 22230.

Please refer to the National Science Board Web site (http://www.nsf.gov/nsb/notices/) for information or schedule updates, or contact: Kim Silverman, National Science Foundation, 4201Wilson Blvd., Arlington, VA 22230. Telephone: (703) 292-7000.

Ann Ferrante,
Writer-Editor.

[FR Doc. 2011-20643 Filed 8-10-11; 11:15 am]

BILLING CODE 7555-01-P